DEPARTMENT OF EDUCATION

President's Advisory Commission on Asian Americans and Pacific Islanders

AGENCY: President's Advisory Commission on Asian Americans and Pacific Islanders, U.S. Department of Education.

ACTION: Notice of an open meeting.

SUMMARY: The notice sets forth the schedule and agenda of the meeting of the President's Advisory Commission on Asian Americans and Pacific Islanders (Commission). The notice also describes the functions of the Commission. Notice of the meeting is required by section 10(a)(2) of the Federal Advisory Committee Act and intended to notify the public of its opportunity to attend.

Date: March 14, 2011.

Time: 1:30 p.m.-5:30 p.m. EDT.

Address: U.S. Department of Transportation, 1200 New Jersey Ave., SE., Washington, DC 20590, Phone: 202-453-7277.

Date: March 15, 2011.

Time: 9 a.m.-5:30 p.m. EDT.

Address: GE Environmental Programs, 1299 Pennsylvania Ave., NW., #900, Washington, DC.

FOR FURTHER INFORMATION CONTACT: Shelly W. Coles, White House Initiative on Asian Americans and Pacific Islanders, 400 Maryland Avenue, SW., Washington, DC 20202; telephone: (202) 453-7277, fax: 202-453-5632.

SUPPLEMENTARY INFORMATION: The President's Advisory Commission on Asian Americans and Pacific Islanders is established under Executive Order 13515, dated October 14, 2009. Per E.O. 13515, the Commission shall provide advice to the President, through the Secretaries of Education and Commerce, as Co-Chairs of the Initiative, on: (i) The development, monitoring, and coordination of executive branch efforts to improve the quality of life of AAPIs through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

Agenda

The purpose of the meeting is to discuss strategic planning; establish sub-committees of the Commission to help facilitate and focus its work; review the work of the White House Initiative on Asian Americans and Pacific Islanders; and determine key strategies to help meet the Commission's charge as established in E.O. 13515.

Additional Information

Individuals who will need accommodations for a disability in order to attend the meeting (e.g., interpreting services, assistive listening devices, or material in alternative format) should notify Shelly Coles at (202) 453-7277, no later than Friday, March 4, 2011. We will attempt to meet requests for accommodations after this date, but, cannot guarantee their availability. The meeting site is accessible to individuals with disabilities. Due to time constraints, there will not be a public comment period at this meeting, However, individuals wishing to provide comment(s) about the AAPI WHI or the Commission may contact Shelly Coles via e-mail at shelly.coles@ed.gov. Please include in the subject line, the wording, “Public Comment”.

Records are kept of all Commission proceedings and are available for public inspection at the office of the White House Initiative on Asian Americans and Pacific Islanders, U.S. Department of Education, 400 Maryland Avenue, SW., Washington, DC 20202, Monday-Friday during the hours of 8:30 a.m. to 5 p.m.

Electronic Access to this Document: You may view this document, as well as all other documents of this Department published in the Federal Register, in text or Adobe Portable Document Format (PDF) on the internet at the following site: http://www.ed.gov/news/fedregister/index.html. To use PDF you must have Adobe Acrobat Reader, which is available free at this site. If you have questions about using PDF, call the U.S. Government Printing Office (GPO), toll free at 1-866-512-1800; or in the Washington, DC area at 202-512-0000.

Martha Kanter,
Under Secretary.

[FR Doc. 2011-4551 Filed 2-28-11; 8:45 am]

BILLING CODE 4000-01-P